DEPARTMENT OF EDUCATION

RIN 1820-ZA28

Special Demonstration Programs—Model Demonstration Projects—Mentoring for Transition-Age Youth and Young Adults With Disabilities

AGENCY: Office of Special Education and Rehabilitative Services, Department of Education.

ACTION: Notice of proposed priority, definitions, and application requirements.

SUMMARY: The Assistant Secretary for Special Education and Rehabilitative Services proposes a priority, definitions, and application requirements under the Special Demonstration Programs focusing on mentoring models that provide appropriate supports for transition-age youth and young adults with disabilities. The mentoring models developed under this program must incorporate effective, research-based mentoring methods. The Assistant Secretary may use this priority, definitions, and the requirements for competitions in fiscal year (FY) 2003 and later years. We take this action to increase meaningful postsecondary education and quality employment outcomes through a mentoring system within State vocational rehabilitation (VR) agencies. Grants would be made to State VR agencies.

DATES: We must receive your comments on or before September 4, 2003.

ADDRESSES: Address all comments about this proposed priority, definitions, and application requirements to Alfreda Reeves, U.S. Department of Education, 400 Maryland Avenue, SW., room 3314, Switzer Building, Washington, DC 20202-2645. If you prefer to send your comments through the Internet, use one of the following addresses: Alfreda.Reeves@ed.gov or Pamela.Martin@ed.gov.

You must include the term “Mentoring Model Demonstration” in the subject line of your electronic message.

FOR FURTHER INFORMATION CONTACT: Alfreda Reeves. Telephone: (202) 205-9361 or via Internet: Alfreda.Reeves@ed.gov. Or Pamela Martin, U.S. Department of Education, 400 Maryland Avenue, SW., room 3314, Switzer Building, Washington, DC 20202-2645. Telephone: (202) 205-8494 or via Internet: Pamela.Martin@ed.gov.

If you use a telecommunications device for the deaf (TDD), you may call the TDD number at (202) 205-4475.

Individuals with disabilities may obtain this document in an alternative format (e.g., Braille, large print, audiotape, or computer diskette) on request to one of the contact persons listed under FOR FURTHER INFORMATION CONTACT.

SUPPLEMENTARY INFORMATION:

Invitation to Comment

We invite you to submit comments regarding this proposed priority, definitions, and application requirements. To ensure that your comments have maximum effect in developing the notice of final priority, definitions, and application requirements, we urge you to be specific about any recommended changes. We are particularly interested in receiving comments on the following topics:

1. The definitions of “mentor” and “mentoring” as they appear in this notice.

2. The requirement to collaborate with a consumer-controlled organization.

We invite you to assist us in complying with the specific requirements of Executive Order 12866 and its overall requirement of reducing regulatory burden that might result from this notice. Please let us know of any further opportunities we should take to reduce potential costs or increase potential benefits while preserving the effective and efficient administration of the program.

During and after the comment period, you may inspect all public comments about this proposed priority, definitions, and application requirements in room 3038, Switzer Building, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority, definitions, and application requirements. If you want to schedule an appointment for this type of aid, please contact one of the individuals listed under FOR FURTHER INFORMATION CONTACT.

We will announce the final priority, definitions, and application requirements in a notice in the Federal Register. We will determine the final priority, definitions, and application requirements after considering responses to this notice and other information available to the Department. This notice does not preclude us from proposing or funding additional priorities, subject to meeting applicable rulemaking requirements.

Note: This notice does not solicit applications. In any year in which we choose to use this proposed priority, definitions, and application requirements, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Proposed Priority—Model Demonstration Projects—Mentoring for Transition-Age Youth and Young Adults With Disabilities

These model demonstration projects would test whether increases in meaningful postsecondary education and quality employment outcomes can be achieved through the use of mentors by State VR agencies.

The program will be conducted under section 303(b) of the Rehabilitation Act of 1973, as amended (Act). The proposed priority supports section 303(b) by furthering the purposes of the Act, specifically by empowering individuals with disabilities to maximize employment, economic self-sufficiency, independence, and inclusion and integration into society.

Background

The educational and employment achievements of youth and young adults with disabilities lag significantly behind those of their peers without disabilities. The Office of Special Education Programs reports that only 57.4 percent of youth with disabilities graduate from high school with a standard diploma. In addition, the Final Report of the Presidential Task Force on Employment of Adults with Disabilities, July 2002, estimates that only one-third of youth and young adults with disabilities receive appropriate job training and assistance. Some of the barriers to autonomy and achievement encountered by youth and young adults with disabilities include uncoordinated approaches to transition across service systems, discontinuity between schools and adult disability services, poor preparation of teens for adult life, lack of incentives or supports for early transition planning, and lack of school and community supports.

For transitioning youth and young adults with disabilities, developing positive self-confidence, resilience, and an expectation for achievement in a competitive, high'quality career must take place early in their academic career. Mentors or role models with whom students can identify, and who have shared interests, can have a positive impact that will last a lifetime. These individuals can play a vital role in eliminating barriers to autonomy, community integration, and achievement by motivating youth and young adults with disabilities to develop social competence, academic motivation, career awareness, and other appropriate skills needed for employment and independent living. Successful mentoring programs under this model demonstration program will provide appropriate supports, based on the individual's unique strengths, priorities, concerns, abilities, capabilities, interests, and informed choice. An overall objective of the mentoring program is to encourage youth and young adults with disabilities in meeting and achieving a desired optimal career goal or postsecondary education.

Priority

Under 34 CFR 75.105(b)(2)(v) and 34 CFR 373.6(b)(2) and (c)(8), this priority supports projects that demonstrate mentoring models focusing on transitioning youth and young adults with disabilities that will be effective in increasing meaningful community integration, postsecondary education, and employment outcomes. The mentoring models developed under this program must incorporate effective, research-based mentoring methods. An external evaluation of these projects will be initiated in FY 2004. The projects must cooperate with the external evaluator including establishing a common data system.

A. Definitions

Mentor means a more successful, experienced person with a disability, who can be most appropriately matched with the youth with a disability and who can impart advice, support, insight, and knowledge on employment and other life activities to a less experienced person. State VR agencies should match mentors and mentees using the best individualized information possible.

Mentoring means the act of a more successful, experienced person or persons with a disability, working with a less experienced youth or young adult, or a group of individuals, by providing guidance in the form of teaching and support, encouraging and motivating, assisting with career and professional development, assisting with goal achievement, and linking the less experienced youth to others who can help enhance growth and development.

Youth and young adults with disabilities, as defined in 34 CFR 373.4, means individuals with disabilities who are between the ages of 16 and 26 inclusive when entering the program.

Consumer-controlled organization is an organization that vests power and authority in individuals with disabilities and a majority of the officers and members of the board of directors are individuals with disabilities.

B. General Requirements for Applicants

These model demonstration projects must focus on research-based mentoring methods that provide appropriate supports for transition-age youth and young adults with disabilities. The projects must demonstrate research-based mentoring models that will be effective in increasing meaningful community integration, postsecondary education, and employment outcomes through collaboration between State VR agencies and consumer-controlled organizations. To meet the requirements an applicant must—

(1) Describe the manner in which mentoring will increase academic achievement, participation in postsecondary education, and high-quality employment outcomes for transitioning youth and young adults with disabilities by including information on the expected impact and outcomes of the project. More specifically, an applicant must project a goal of how many youth and young adults with disabilities will transition into postsecondary education or will achieve high-quality employment outcomes. An applicant also must be specific about what data it will collect in order to measure project outcomes against the goal;

(2) Describe the research-based mentoring models that will be demonstrated through its project;

(3) Describe clear program goals and intended program outcomes and well-defined operational guidelines that will support these goals;

(4) Describe how the project will collaborate with consumer-controlled organizations that have in-depth knowledge of the rehabilitation process, the outreach methods used to select project participants, and the criteria by which individuals with disabilities will be recruited as mentors by the consumer-controlled organizations;

(5) Describe how the proposed project will increase self-advocacy, high-level personal and career expectations, decisionmaking, and adjustment to disability of the mentored individuals. At a minimum, the project must describe how mentors will help consumers—

(a) Navigate through service delivery systems; and

(b) develop and improve self-confidence, community integration skills, work skills, self-determination skills, advocacy, and decisionmaking;

(6) Describe the design and implementation of an internal evaluation plan for which—

(a) The methods of evaluation are thorough, feasible, and appropriate to the goals, objectives, and outcomes of the project;

(b) The methods of evaluation include the use of objective performance measures that are clearly related to the intended outcomes of the project and will produce quantitative and qualitative data to the extent possible;

(c) The methods of evaluation will provide performance feedback and permit periodic assessment of progress toward achieving intended outcomes; and

(d) The methods of evaluation will be consistent with and can support the program assessment that will be implemented by the Rehabilitation Services Administration; and

(7) Include a plan to widely disseminate the results of the project, including any mentoring methods that demonstrated positive results, so the mentoring model may be adapted, replicated, or integrated into other State VR agencies and disability organizations.

Executive Order 12866

This notice of proposed priority, definitions, and application requirements has been reviewed in accordance with Executive Order 12866. Under the terms of the order, we have assessed the potential costs and benefits of this regulatory action.

The potential costs associated with this notice are those resulting from requirements we have determined as necessary for administering this program effectively and efficiently.

In assessing the potential costs and benefits—both quantitative and qualitative—of this notice, we have determined that the benefits of the proposed priority, definitions, and application requirements justify the costs.

We have also determined that this regulatory action does not unduly interfere with State, local, and tribal governments in the exercise of their governmental functions.

Summary of Potential Costs and Benefits

The Assistant Secretary has determined that the cost to the Federal Government associated with this program will not exceed $1,200,000 in FY 2003. No other costs will result from the announcement of this proposed priority, definitions, and application requirements.

The benefit of this proposed priority, definitions, and application requirements will be the establishment of model demonstration projects that will lead to increases in meaningful postsecondary education and quality employment outcomes through a mentoring system within State VR agencies.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations

34 CFR part 373.

Electronic Access to This Document

You may review this document, as well as all other Department of Education documents published in the Federal Register, in text or Adobe Portable Document Format (PDF) on the Internet at the following site: http:// www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.235Q, Special Demonstration Programs—Model Demonstration Projects—Mentoring for Transition-Age Youth and Young Adults With Disabilities)

Program Authority: 29 U.S.C. 773(b).

Dated: July 31, 2003.
Robert H. Pasternack,
Assistant Secretary for Special Education and Rehabilitative Services.

[FR Doc. 03-19876 Filed 8-4-03; 8:45 am]

BILLING CODE 4000-01-P